DEPARTMENT OF HOMELAND SECURITY

Coast Guard

33 CFR Part 165

[CGD13-06-016]

RIN 1625-AA00

Safety Zone: M/V ZHEN HUA 1 Crane Delivery Operation, Columbia River, Portland, OR

AGENCY: Coast Guard, DHS.

ACTION: Temporary Final Rule.

SUMMARY: The Coast Guard is establishing a temporary safety zone around the M/V ZHEN HUA 1 while underway, anchored or moored on the Columbia River. Captain of the Port, Portland Oregon is taking this action to safeguard individuals and vessels from safety hazards associated with the transit of the M/V ZHEN HUA 1 while it is transporting a gantry crane on the Columbia River. This rule will provide a moving safety zone around the vessel for the purpose of safe and efficient navigation.

DATES: This rule is effective from 12 a.m. (PDT) on April 24, 2006 through 12 a.m. (PDT) on May 8, 2006.

ADDRESSES: Documents indicated in this preamble as being available in the docket are part of docket [CGD13-06-016] and are available for inspection or copying at U.S. Coast Guard Sector Portland, 6767 North Basin Ave., Portland, Oregon 97217 between 8 a.m. and 4 p.m., Monday through Friday, except Federal holidays.

FOR FURTHER INFORMATION CONTACT: Christopher Lumpkin, Coast Guard Sector Portland, 6767 North Basin Ave., Portland, Oregon 97217, 503-240-9301.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Because of the unpredictable nature of the weather, the sponsor did not notify the Coast Guard until recently with the final details of the operation. The M/V ZHEN HUA 1 will be severely restricted in its ability to maneuver while transiting the Columbia River and will be a hazard to navigation and vessel traffic in the vicinity of the vessel. If normal notice and comment procedures were followed, this rule would not become effective until after the dates of the event. For this reason, following normal rulemaking procedures in this case would be impracticable and contrary to the public interest.

Background and Purpose

The Coast Guard is establishing a temporary safety zone to ensure the safety of vessel traffic in the area of the M/V ZHEN HUA 1 as it enters and transits the Columbia River to the Port of Portland Container Terminal T-6. The safety zone is necessary because the beam of the vessel with the cargo exceeds 412 feet.

The Coast Guard, through this action, intends to assist and ensure the safe transit of the M/V ZHEN HUA 1 because of the large area this vessel with its cargo will occupy as it transits the Columbia River. This safety zone will be enforced by representatives of the Captain of the Port, Portland, Oregon. Entry into the zone will be prohibited unless authorized by the Captain of the Port. The Captain of the Port may be assisted by other Federal and local agencies.

Discussion of Rule

The M/V ZHEN HUA 1 will be transiting upbound on the Columbia River from the mouth of the river to the Port of Portland Container Terminal T-6. The vessel is transporting a gantry crane that exceeds the beam of the vessel on the port side by 95 feet and on the starboard side by 193 feet. Total beam for the vessel with the crane aboard is 412 feet. Maximum height of the crane aboard the vessel will exceed 225 feet. Because of this beam width and height of its cargo, the M/V ZHEN HUA 1 will be severely restricted in its ability to maneuver. The Coast Guard is establishing a safety zone encompassing a 100 hundred yard radius around the M/V ZHEN HUA 1. This operation is necessary for the safe navigation of vessel traffic due to the beam of the crane and the hazardous conditions associated with it. During transit under the bridges, safety concerns will be heightened due to the small margin of error for safe passage.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under paragraph 10(e) of the regulatory policies and procedures of DHS is unnecessary. This expectation is based on the fact that the regulated area established by the rule encompasses a limited area for a limited duration around the M/V ZHEN HUA 1 while transiting upbound on the Columbia River. The moving safety zone around this vessel will impinge on commercial traffic lanes, but will be of short duration.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities because the zone will only be in place for a limited duration of time and maritime advisories will be issued allowing mariners to adjust their plans accordingly. However, this rule may affect the following entities, some of which may be small entities: the owners and operators of vessels intending to transit or anchor in that portion of the Columbia River in which the M/V ZHEN HUA 1 is operating during the periods this safety zone is enforced.

If you believe that your business, organization, or governmental jurisdiction qualifies as a small entity and that this rule would have a significant economic impact on it, please submit a comment (see ADDRESSES) explaining why you believe it qualifies and how and to what degree this rule would economically affect it.

Assistance for Small Entities

Under section 213(a) of the Small Business Regulatory Enforcement Fairness Act of 1996 (Pub. L. 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A temporary section 165.T13-006 is added to read as follows:

§ 165.T13-006 Safety Zone Regulations; M/V ZHEN HUA 1

(a) Location. The following area is a safety zone: All waters of the Columbia River within a 100 yard radius centered on the M/V ZHEN HUA 1 while the vessel is underway, anchored or moored.

(b) Regulations. In accordance with the general regulations in section 165.23, no person or vessel may enter or remain within this safety zone unless authorized by the Captain of the Port or his designated representatives.

(c) Enforcement Period. This section will be enforced from 12 a.m. (PDT) on April 24, 2006 through 12 a.m. (PDT) on May 8, 2006 while the M/V ZHEN HUA 1 is underway, anchored or moored in the Columbia River.

Dated: April 17, 2006.
Patrick G. Gerrity,
Captain, U.S. Coast Guard, Captain of the Port, Portland, OR.

[FR Doc. 06-3933 Filed 4-25-06; 8:45 am]

BILLING CODE 4910-15-P